DEPARTMENT OF THE INTERIOR

Bureau of Land Management

[PO #4820000251]

Notice of Availability of the Record of Decision for the Jove Solar Project, La Paz County, Arizona

AGENCY: Bureau of Land Management, Interior.

ACTION: Notice of availability.

SUMMARY: In compliance with the Federal Land Policy and Management Act of 1976, as amended (FLPMA), the Bureau of Land Management (BLM) announces the availability of the Record of Decision for the Jove Solar Project, located in La Paz County, Arizona. The Record of Decision signed on January 3, 2025, constitutes the decision of the BLM, as approved by the Department of the Interior.

DATES: The Department of the Interior approved the BLM's Record of Decision on January 3, 2025.

ADDRESSES: The Record of Decision, Final Environmental Impact Statement, and other documents pertinent to the Jove Solar Project are available for review on the BLM ePlanning project website at: https://eplanning.blm.gov/eplanning-ui/project/2017881/510. Printed copies of the Record of Decision are available at the BLM Yuma Field Office, 7341 East 30th Street, Yuma, Arizona 85365.

FOR FURTHER INFORMATION CONTACT: Derek Eysenbach, Project Manager, at deysenbach@blm.gov, Bureau of Land Management, One North Central Avenue, Suite 800, Phoenix, Arizona 85004, or by phone at (602) 417-9505. Individuals in the United States who are deaf, deafblind, hard of hearing, or have a speech disability may dial 711 (TTY, TDD, or TeleBraille) to access telecommunications relay services for contacting Mr. Eysenbach. Individuals outside the United States should use the relay services offered within their country to make international calls to the point-of-contact in the United States.

SUPPLEMENTARY INFORMATION: The Department of the Interior has approved the BLM's decision to issue a right-of-way grant for an initial term of 30 years for construction, operation, maintenance, and decommissioning of a utility-scale solar photovoltaic facility, called the Jove Solar Project. The Project encompasses 3,495 acres of public lands administered by the BLM Yuma Field Office and 38 acres administered by La Paz County, located in southeastern La Paz County, Arizona, south of Interstate 10 midway between Phoenix and the California border, approximately 22 miles east-southeast of the community of Brenda and the I-10/Highway 60 junction, and 30 miles west of the community of Tonopah. The Jove Solar Project consists of up to 1.2 million solar photovoltaic modules and associated infrastructure, new and improved roads, and powerlines for collection and transmission of electricity to the Cielo Azul Switchyard adjacent to the Ten West Link 500-kilovolt transmission line and will have a generation capacity of 600 megawatts or more.

The decision to authorize this energy generation project on public lands is consistent with FLPMA and the BLM's right-of-way regulations ((43 U.S.C. 1761) (https://www.govinfo.gov/link/uscode/43/1761)); ((43 CFR part 2800) (https://www.ecfr.gov/current/title-43/part-2800)). Approval of this right-of-way grant constitutes the final decision of the Department of the Interior and is not subject to appeal under Departmental regulations at 43 CFR part 4 (https://www.ecfr.gov/current/title-43/part-4).

(Authority: 43 U.S.C. 1761 and 43 CFR part 2800)

Raymond Suazo,
State Director.

[FR Doc. 2025-01042 Filed 1-15-25; 8:45 am]

BILLING CODE 4331-12-P